DEPARTMENT OF LABOR

Employment and Training Administration

Older Americans Act—Solicitation for Grant Applications; Senior Community Service Employment Program National Grants for Program Year 2006

AGENCY: Employment and Training Administration, DOL.

ACTION: Notice of availability of funds and solicitation for grant applications for the national grants portion of the Senior Community Service Employment Program.

Announcement Type: New.

Funding Opportunity Number: SGA/DFA-PY 05-06.

Catalog of Federal Domestic Assistance Number: 17.235.

DATES: The closing date for receipt of applications is April 17, 2006.

SUMMARY: The U.S. Department of Labor (the Department), Employment and Training Administration (ETA) announces a grant competition for national grantee funding under the Senior Community Service Employment Program (SCSEP) authorized under title V of the Older Americans Act Amendments of 2000 (OAA Amendments), Pub. L. 106-501, 42 U.S.C. 3056 and implemented under 20 CFR part 641 (April 9, 2004).

These projects will promote part-time work-based training opportunities in local communities for unemployed, low-income individuals who are age 55 and over, and will foster increased prospects for their economic self-sufficiency. SCSEP is the only nationwide Federal program that focuses on training and placing older individuals into community work-based training and unsubsidized employment.

The total amount of funds available for this SGA is approximately $341,000,000, or 78 percent of the total appropriation for Program Year (PY) 2006 (July 1, 2006 through June 30, 2007). It is anticipated that no more than 20 awards will be made under this SGA, including at least one award to an Indian and Native American organization and at least one award to an Asian Pacific Islander organization, as required by section 506(a)(3) of the OAA Amendments. Eligible entities include any non-profit organization, Federal public agency, or Tribal organization that has the ability to operate in more than one state and that meets the eligibility and responsibility requirements outlined in 20 CFR part 641 subpart D. The remaining 22 percent of the appropriation is reserved for state formula-funded programs and therefore, is not included in this SGA.

The Department is holding a full and open competition in order to provide better services to SCSEP participants, employers, and the communities served by the national grant program. Open competition is not only the preferred vehicle for obtaining new grantees, but in most cases, it is the required vehicle for obtaining new grantees. The Department favors full and open competition because it provides an opportunity to ensure that the best applicants are awarded grants and that the program is administered effectively.

The Department held the first competition for national grant funding in PY 2003. As a result of that competition, the Department selected four new national grantees, and made extensive changes to the areas served by the incumbent grantees. These grantees provide diversity in services, including expertise in serving individuals with disabilities and minority populations as well as close connections with One-Stop Career Centers. The Department deems it important to maintain diversity among qualified service providers to the extent possible. The Department is especially interested in organizations that demonstrate a partnership with local One-Stop Career Centers and community colleges and that promote employment through high growth job opportunities.

Under this SGA, the Department will be consolidating grantee service areas to increase program effectiveness and achieve economies of scale. Therefore, applicants are required to apply for contiguous locations within a state. Applicants applying as Asian and Pacific Islander and/or Indian organizations, pursuant to section 506(a)(3) of title V of the OAA, are exempt from this contiguousness requirement. The Department reserves the right to negotiate with successful applicants on the final service areas.

SUPPLEMENTARY INFORMATION: This SGA consists of eight (8) sections:

• Section I provides background information about the program.

• Section II describes the size and nature of the anticipated awards.

• Section III describes applicant eligibility criteria.

• Section IV outlines the application submission and withdrawal requirements.

• Section V describes the application review process and rating criteria.

• Section VI outlines additional award administration information.

• Section VII contains DOL agency contact information.

• Section VIII describes the notice to state and incumbent national grantees, bidders' conference information, and procedures for asking questions about this SGA. This section also lists appendices for other supplemental information, including a list of resources.

I. Funding Opportunity Description

The SCSEP was originally authorized in 1965 by the Economic Opportunity Act, Public Law 89-73. In 1973 the SCSEP was authorized under the Older Americans Act (OAA). As authorized by title V of the OAA of 2000 (42 U.S.C. 3056 et seq.), the SCSEP fosters and promotes useful part-time work-based training opportunities in community organizations for persons with low incomes who are 55 years of age or older. Program participants receive on-the-job training at local public or non-profit agencies and are paid the higher of the Federal, state, or local minimum wage or the comparable wage for approximately 20 hours per week while in job training (OAA Amendments § 502(b)(1)(J); 20 CFR 641.565(a)). The ultimate goal is to assist the transition of older individuals into unsubsidized employment that leads to self-sufficiency.

The Fiscal Year 2005 total appropriation was $438,678,400 and applied to the Program Year that began on July 1, 2005. This funding supported over 61,300 positions and will result in approximately 93,000 people being served during the program year that ends on June 30, 2006.

The following information describes key aspects of the program. For a more in-depth understanding, applicants should read the resources listed in Section VIII of this SGA.

Eligible Participant. An individual is eligible for the program if he or she is unemployed at the time of enrollment, is age 55 or older, and has an income of no more than 125 percent of the Federal poverty guidelines.

Services for Individuals with Multiple Barriers to Employment. SCSEP is a focused program that seeks to serve those most in need as provided at 20 CFR 641.525. These individuals are age 60 or over and who have the greatest economic need, or greatest social need, or poor employment history or prospects.

Individual Employment Plans (IEP). As required at 20 CFR 641.535, each SCSEP participant must be assessed to determine his or her skills and employment-related needs and a plan must be developed to improve the participant's employability. The IEP generally includes a goal of unsubsidized employment and an appropriate sequence of services and training for that participant based on the assessment. (Other employment and training programs sometimes refer to this type of plan as an Individual Development Plan or Individual Training Plan). Grantees should monitor IEP progress regularly and are required to update an IEP (if necessary) for each participant at least twice during a 12-month period.

Unsubsidized Employment. An important goal of the program is to help participants achieve self-sufficiency. Grantees provide training opportunities that enable participants to obtain employment. In addition, grantees provide regular follow-up communication with the participant and employer to ensure that the participant is retained in the job. Grantees may also provide supportive services to successfully placed participants for up to 6 months to enable them to remain employed. Successful employment and retention in a job should result from quality training efforts and good employer relationships.

Community Service Work-Based Training. Providing subsidized work-based training through community service is an important aspect of SCSEP. Participants obtain the confidence needed to become employable and the organizations that “host” the participants receive volunteer work. As provided at 20 CFR 641.140, community service may include, but is not limited to, such activities as social, health, welfare and educational services, counseling services, including tax counseling, environmental efforts, weatherization efforts and economic development. The training provided at these host agencies must be consistent with the participant's IEP. Participants receive wages paid by the grantee while they are in work-based training.

Host Agencies. Host agencies provide the worksites for program participants and may be public or private 501(c)(3) organizations, including community-based and faith-based organizations, authorized Federal agencies, state agencies, or local public agencies. Host agencies are an important component of the program because they provide training and work experience for participants. Grantees must work with host agencies to identify appropriate training that does not lead to maintenance of effort violations. Therefore, the grantee's communication with and training for the host agency directly affects the value of the work-based training experience for the participants, and the participants' ability to obtain unsubsidized employment.

Other Permissible Training. Training other than work-based training is an important tool to improve the skills and talents of participants, to help them succeed in their community service assignments, and to facilitate placement of participants in unsubsidized employment. How much training, and what types of training are necessary are based on each individual participant's IEP, but may include classroom training, general skills training, or specialized training.

Coordination With One-Stop Career Centers, State and Local Workforce Investment Boards, State Agencies on Aging, Area Agencies on Aging, Other Grantees and SCSEP 502(e) Program Grantees. As a required partner, all SCSEP grantees are required to coordinate activities with local One-Stop Career Centers administered by Local Workforce Investment Boards under the Workforce Investment Act (WIA), Pub. L. 105-220, through a Memorandum of Understanding (MOU). For instance, as provided at 20 CFR 641.230, participant determinations of eligibility and needs assessments completed by the SCSEP satisfy any condition for an assessment under WIA and vice-versa.

Coordination with state agencies on aging and area agencies on aging is required to ensure seamless support of aging individuals, which also helps participants achieve self-sufficiency. These organizations often operate local SCSEP programs but also offer supportive benefits to seniors. Grantees are also encouraged to coordinate efforts with other SCSEP grantees.

Participant Wages and Fringe Benefits. Grantees are required to spend a minimum of 75 percent of the Federal grant funds on participant wages and fringe benefits. Participant wages are based on the higher of the Federal, state, or local minimum wage, or at a comparable wage for time spent in approved program activities only (e.g., community service training, other permissible training). See Section II of this SGA for funding calculation information. Generally, payments are made every 2 weeks.

Although the Department discourages grantees from providing permissive fringe benefits, such as annual leave and sick leave, because they dissuade participants from obtaining unsubsidized employment, applicants will not be penalized if they elect to provide such benefits. If a grantee provides such benefits, they must be consistently applied to all participants and expire at the end of every program year. Workers' compensation is a statutorily required fringe benefit that must be provided to each participant, and falls into a different cost classification from the workers' compensation provided to the grantee's employees. Please see 20 CFR 641.565(b)(iii). Physical examinations must also be offered to every participant as required under 20 CFR 641.565(b)(ii)(A).

Equitable Distribution (ED). Section 507 of the OAA Amendments requires the Department to ensure that services are provided equitably within each state. The calculation is based on census data by county and state and annual program appropriations, and results in the number of authorized positions or “slots” that are allocated to each county. The number of authorized positions is proportional to the number of eligible people in the county compared to the state total. For every slot, one or more individuals can receive services through the program year. For instance, when a participant exits the program for employment, a new individual may be enrolled based on remaining program funds.

Right of First Refusal. Under this solicitation, all successful applicants must allow the current participants to remain in the program under the same conditions in which they are found in order to minimize disruptions to the program. Therefore, while participants may not elect to remain under a former grantee, they must be able to continue community service work-based training with the same host agency for a minimum of 90 days after July 1, 2006.

Administrative Costs. The administrative allowance for the program is 13.5 percent of the Federal share. Administrative costs are defined in the OAA Amendments at section 502(c)(4) and 20 CFR 641.856. This administrative limit may be extended to 15 percent as permitted under section 502(c)(3) of the OAA Amendments and 20 CFR 641.867.

Non-Federal Share Requirement. Section 502(c)(1)-(2) limits the Department's cost of operating the program to 90 percent. Therefore, each grantee must contribute a minimum of 10 percent to the program through cash or in-kind contributions. This requirement also applies to Federal agencies unless a statutory exemption is demonstrated. Grantees are prohibited from requiring local projects or subgrantees from providing match as a condition of receiving funds. For more information on non-Federal share requirements, please see 20 CFR 641.809 and 29 CFR 95.23.

Subgrantee. This is defined as any organization that provides program services on behalf of the grantee. There are no statutory restrictions on the type of entity that may be a subgrantee; however, all subgrantees are required to follow all applicable Department rules, regulations, and policy advisories. Some examples of entities that may be subgrantees include, but are not limited to, community and faith-based organizations, community colleges, state agencies, One-Stop Career Centers, for-profit organizations, and tribal organizations.

Extension of Funding. At the request of a grantee, the Department may permit a grantee to extend the use of any remaining program year grant funds beyond the program year. The Department discourages such practice and will grant an extension only under extenuating circumstances.

Performance Measures. The performance measures for the program are outlined in 20 CFR part 641 subpart G and Appendix I. These goals are designed to ensure that grantees are enrolling those individuals who need the most training assistance to obtain employment. They also ensure that participants are placed into and retained in jobs and that they continue to improve their skills and employability. The Department expects continuous performance improvement from the program overall, which is measured under the Government Performance and Results Act (GPRA) of 1993 through established program goals. The ability of a grantee to meet the performance measures depends largely on how successful the grantee is at recruiting, conducting outreach, identifying job openings, training participants, and successfully matching participants with jobs.

II. Award Information

Type of Assistance Instrument. This is an initial one year grant unless extended by the Department under extenuating circumstances as described in Section II-C. The grant may be extended for an additional two years, contingent upon the grantee meeting or exceeding the minimum negotiated performance measures as required by section 514(a) of the OAA Amendments and 20 CFR 641.700.

A. Service Locations

The applicable service locations are listed by state and county in Section VIII, Appendix F of this SGA. Please note that national grant funds are not allocated for the states of Alaska, Delaware, and Hawaii, and for the territories of American Samoa, Guam, Northern Marianas Islands, and the U.S. Virgin Islands.

B. Funding Levels

(1) Funding Amount and Total Awards. The total amount of funds available for this SGA is approximately $341,000,000. It is anticipated that no more than 20 awards will be made under this SGA, including at least one award to an Indian organization and at least one to an Asian Pacific Islander organization that serve older individuals.

(2) Minimum Request for Funding. In order to deliver services more efficiently and to reduce duplicative administrative costs, the Department seeks to reduce the number of national grantees serving individual local areas through this SGA. To that end, certain requirements have been placed on the size of requests for funding.

Applicants must apply for at least 10 percent of the state allocation or $1,600,000 (approximately 224 slots) in each state, whichever is greater. (See examples 1 and 2 below.) This requirement does not preclude an applicant from applying for more than 10 percent of the allocated amount in a state. In fact, the Department encourages applicants to apply for 20-25 percent for maximum efficiencies of operation.

Applicants must also apply for all of the positions allocated in a county, except in large counties that exceed the 10 percent or $1.6 million state minimum. The Department may award two or more grants in large counties that have more than 224 positions (or more than $1.6 million). For those large counties, the applicant may apply for a portion of the county; but if that does not meet the 10 percent or $1.6 million state minimum, the applicant must also apply for surrounding contiguous counties.

In addition, requests for multiple counties in a state must be contiguously located to receive consideration. An applicant may apply for more than one cluster of counties in a state, such as in larger states, but each cluster must meet the minimum state funding requirements.

Applicants must list their requests for locations and number of positions by county and state in a chart format. This chart is available in Excel format with accompanying instructions at http://www.doleta.gov/seniors/. Applicants are required to submit this file electronically as part of the application packet.

Example 1: Organization A submits an application to provide services in Wyoming, which has 230 available slots. Organization A must apply for all of the available slots in Wyoming.

Example 2: Organization B submits an application to provide services in California, which has 4,080 available slots but only wants to operate in the Oakland area, which is in Alameda County. In order to be considered for an application, Organization B must meet the minimum funding requirements, which in this case is 10 percent or $2,918,424 (408 slots) in California. Organization B must apply for the 158 slots in Alameda County or $1,130,174, and the slots in any contiguous counties to meet the minimum state funding request. In this example, Contra Costa, Santa Clara, and Stanislaus Counties are contiguously located. Therefore, Organization B could also apply for 81 slots in Contra Costa or $579,606; 131 slots in Santa Clara County or $937,043; and 61 slots in Stanislaus County or $436,333 for a total request of $3,082,943, or other contiguous counties to meet the minimum funding requirements.

(3) The Calculation Formula. Applicants can calculate the estimated amount of funds allocated to a state by county using the “cost per authorized position” formula in section 506(g)(1) of the OAA Amendments. The unit cost is roughly $7,153 per authorized position based on the Federal minimum wage. This amount represents the total funding allocated for each authorized position, including administrative costs. Applicants should multiply this amount by the number of positions in the county as listed in Section VIII, Appendix F of this SGA.

Example: Stanislaus County, California has 61 available positions in the county. Therefore, the amount of funding would be $7,153 × 61 = $436,333. Although this is only an estimate of cost per authorized position, it is a useful tool for applicants to determine their funding request under this proposal.

Note: A higher state minimum wage does not impact the slot funding calculation, but is a factor that is considered for performance measure calculations.

(4) Calculation Requirements. Calculations must be based on the number of authorized positions as a result of equitable distribution rather than the actual number of positions that currently exist in the county. This requirement encourages equitable distribution of positions. Therefore, under-served areas will be funded to provide services to more needy individuals in those counties. However, those counties that are over-served will not be funded to provide for all current participants. It will be the successful applicant's responsibility to move these eligible participants into unsubsidized employment or to fund the positions as part of a non-Federal share contribution. In exceptional circumstances, the transition period may exceed one year. (See Appendix F for the number of authorized positions in each county.)

Example 1: Alameda County, California should receive 158 positions according to the equitable distribution formula. However, this county is currently over-served by 20 positions. An organization applying for this county will only be funded for the 158 positions or $1,130,174. The successful applicant will be responsible for either placing 20 participants in unsubsidized employment or funding the positions using grant or non-Federal share (match) funds. (See Appendix F for the number of authorized positions and the current level of filled positions.)

Example 2: San Joaquin County, California should receive 85 positions according to the equitable distribution formula. However, this county is currently under-served by 7 positions. An organization applying for this county will be funded for 85 positions or $608,005 and will be able to enroll additional participants in the program in the county.

(5) Disqualification Statement. A failure in the application to adhere to these requirements will result in the disqualification of the applicant to compete for the area(s) impacted.

Note: The Department reserves the right to make final decisions on the service providers in an area and may take into consideration special local conditions and otherwise unforeseen circumstances including combining metropolitan areas across state borders.

C. Period of Performance

Successful applicants under this SGA are expected to commence program operations on July 1, 2006. The period of performance will initially be for one (1) year (unless extended by the Department under extenuating circumstances) with an option to be funded for an additional two (2) years at the Department's discretion. However, the Department's option to refund the initial grant is contingent upon the grantee meeting or exceeding the minimum negotiated performance measures as required by section 514(a) of the OAA Amendments and 20 CFR 641.700.

III. Eligibility Information

A. Eligible Applicants

In order to be eligible to compete for funds under this SGA, the applicant must demonstrate that it is capable of operating in more than one state as required at 20 CFR 641.140. This requirement does not preclude an organization from applying for areas in only one state as long as the other requirements are met. Note, however, that the Department reserves the right to award only one applicant per state.

Applicants must also meet the responsibility and eligibility tests under section 514(b)-(d) of the OAA Amendments and 20 CFR 641.430—641.440 and the funding requirements in Section II above.

Applicants may apply to receive a grant under one or more of the following three (3) categories:

(1) General National Grant Funds. Applications for general SCSEP national grant funds will be accepted from public and private nonprofit agencies and organizations, including faith-based and community-based organizations, and tribal organizations consistent with section 502(b)(1) of the OAA Amendments and 20 CFR 641.400(a), that are familiar with the areas and populations to be served and that can administer an effective program in more than one state.

“Nonprofit” is defined as an agency, institution, or organization which is, or is owned and operated by, one or more corporations or associations no part of the net earnings of which inures, or may lawfully inure, to the benefit of any private shareholder or individual (OAA Amendments § 101(4)).

“Public agency” is defined as a Federal public agency with the statutory authority to receive other Federal grant funds (also known as gift authority) (20 CFR 641.400).

“Tribal organizations” is defined as the recognized governing body of any Indian tribe, or any legally established organization of Indians which is controlled, sanctioned, or chartered by such governing body (OAA Amendments § 101(7) and 20 CFR 641.140). In any case in which a contract is let or grant made to an organization to perform services benefiting more than one Indian tribe, the approval of each such Indian tribe is a prerequisite to the letting or making of such contract or grant.

Applicants must mark a “G” on the application and state specifically in the application that they are applying for general SCSEP national grant funds.

(2) Indian Grant Funds. Applications will be accepted from public or nonprofit national Indian aging organizations with the ability to provide employment services to older Indians as required by section 506(a)(3) of the OAA Amendments.

“Indian” means a person who is a member of an Indian tribe (OAA Amendments § 101(5) and 20 CFR 641.140).

“Indian tribe” means any tribe, band, nation, or other organized group or community of Indians (including Alaska Native village or regional or village corporation as defined in or established pursuant to the Alaska Native Claims Settlement Act) which (A) is recognized as eligible for the special programs and services provided by the United States to Indians because of their status as Indians; or (B) is located on, or in proximity to, a Federal or state reservation (OAA Amendments § 101(6) and 20 CFR 641.140).

Applicants must mark an “I” on the application and state specifically in the application that they are applying for Indian SCSEP national grant funds. The Department may take local needs and population characteristics into consideration when making funding decisions.

(3) Pacific Islander and Asian American National Grant Funds. Applications for Pacific Islander and Asian American national grant funds will be accepted from national public or nonprofit Pacific Islander and Asian American aging organizations with the ability to provide employment to older Pacific Islanders and Asian Americans, as required by section 506(a)(3) of the OAA Amendments.

“Pacific Islander and Asian American” means Americans having origins in any of the original peoples of the Far East, Southeast Asia, the Indian Subcontinent, or the Pacific Islands (OAA Amendments § 516(3)).

Applicants must mark an “AP” on the application and state specifically in the application that they are applying for Pacific Islander and Asian American SCSEP national grant funds. The Department may take local needs and population characteristics into consideration when making funding decisions.

(4) Other Useful Information. Applicants applying for more than one category above must submit separate applications for each category for which they are applying. Please note, however, that regardless of the category selected, all successful applicants are required to serve any eligible individual within the awarded counties and states. Consideration of ethnic or racial status is only a factor for tracking services provided to individuals with multiple barriers to employment as defined in Section I of this SGA.

Entities may apply as a consortium, but each member of the consortium must meet all eligibility and responsibility tests. Entities applying as a consortium are also jointly and severally liable for meeting all requirements for administering this Federally-funded program.

In the context of this SGA, a consortium is two or more eligible entities that enter into a legal agreement to apply for SCSEP funds as if they were applying as a single organization. For grant administration purposes, the consortium must identify one organization as the lead contact.

B. Veterans Priority

This program is subject to the priority provisions of the Jobs for Veterans Act, 38 U.S.C. 4215 et seq. In cases where providers of services must choose between two or more candidates with similar backgrounds and skill sets, the Jobs for Veterans Act requires that veterans and spouses of certain specified veterans be given priority. Please note that, to obtain priority of service, a veteran must meet the program's eligibility requirements. The advisory providing policy guidance on veterans' priority is at http://www.doleta.gov/programs/VETs/. Veterans priority for SCSEP is described at 20 CFR 641.520.

Legal rules pertaining to inherently religious activities by organizations that receive Federal financial assistance. The government is generally prohibited from providing direct Federal financial assistance for inherently religious activities. Grants under the solicitation may not be used for religious instruction, worship, prayer, proselytizing, or other inherently religious activities. Neutral, non-religious criteria that neither favor nor disfavor religion will be employed in the selection of grant recipients and must be employed by grantees in the selection of sub-recipients.

C. Ineligible Applicants

Proposals will not be accepted from the following applicants:

(1) Organizations described in section 501(c)(4) of the Internal Revenue Code that engage in lobbying are prohibited from receiving Federal awards under Section 18 of the Lobbying Disclosure Act of 1995, Public Law 104-65.

(2) Organizations that fail to provide any of the required information described in this SGA, or fail to clearly identify the number and location by county of slots requested.

(3) Organizations that fail to demonstrate that they are capable of operating in more than one state, as required by 20 CFR 641.400(a).

(4) Organizations that apply to serve Alaska, Delaware, and/or Hawaii only.

(5) With the exception of Federal public agencies, other public agencies, such as state agencies or local governments, are not eligible to apply.

D. Cost Sharing or Matching

All applicants, including Federal agencies, must demonstrate a minimum of 10 percent non-Federal contribution to the program and the source of such non-Federal share. Federal agencies that have a statutory exemption to the non-Federal share requirement must attach a copy of the exemption language. The source of such documentation must be easily determined. Please see 20 CFR 641.809 for further information.

IV. Application and Submission Information

A. Address To Request Application Package

All application materials will be made available on the following Web sites: http://www.doleta.gov/sga/; http://www.grants.gov; and http://www.doleta.gov/seniors/. Please note that this announcement includes all information and forms needed to apply for this funding opportunity.

B. Content and Form of Application

Each application must include the original signed application and two hard copies. The proposal must consist of two separate and distinct parts: Part A—Financial Proposal and Part B—Technical Proposal. Both parts must be included in each copy of a complete application. Applications that fail to adhere to the instructions in this section will be deemed non-responsive and will not be considered for funding.

1. Requirements for the Technical Proposal

Page Limit. Maximum forty-five (45) page narrative, including all optional attachments, single-side only on 8½″ x 11″ paper. Pages must be numbered. Only those attachments listed below as “Required Attachments” will be excluded from the page limit. Optional attachments must be limited to meaningful information that contributes to and/or verifies the proposed activities, such as letters of commitment.

Spacing. Double-spaced with the exception of optional and required attachments. Major sections and sub-sections of the application should be divided and clearly identified.

Font Size and Typeface. Minimum 12 points in Times New Roman typeface.

Margins. Must be a minimum of one inch on all sides.

Required Attachments. The following attachments must be affixed as separate, clearly identified appendices to the application and will not count against the page limit:

(a) An organizational chart, resumes of key personnel, and complete staffing plans. Resumes of all key staff (e.g., Executive Director, Project Director, etc.) must include a description of each individual's roles and responsibilities, his/her current employment status and previous work experience, including position title, duties, dates in position, employing organizations, and educational background. Staffing plans must identify all key tasks, the person(s) or days required to complete each task, and the percentage of time allocated to the program by individuals assigned to the task, including sub-contractors and consultants;

(b) A list of all government grants and contracts the applicant and its affiliates have had in the past 3 years, including grant officer contact name, telephone number and e-mail address, amount of award, summary of the work performed, period of performance, and performance record and/or accomplishments. For purposes of this SGA, the term “affiliate” refers to the applicant's subsidiaries, divisions, predecessors, and successors;

(c) Chart listing the number of positions for which the applicant is applying to serve by county and state. (See Section VIII, Appendix K of this SGA);

(d) Consortium agreement, if applicable; and

(e) Federal agencies must submit a clearly identifiable copy of the statutory provision that permits it to receive other Federal funds and a clearly identifiable copy of any applicable exemptions from the non-Federal share requirements.

Note: Applicants receiving awards will be expected to show audit reports for the past 3 years for the applicant and its affiliates before final awards are made.

2. Requirements for the Cost Proposal

Application for Federal Assistance SF-424. The SF-424 must clearly identify the applicant and be signed by an individual with authority to enter into a grant agreement on behalf of the applicant. Upon confirmation of an award, the individual signing the SF-424 on behalf of the applicant shall represent the responsible entity. All applications for Federal grant and funding opportunities are required to have a Dun and Bradstreet (DUNS) number. Applicants must supply their DUNS number in item #8 of SF-424. The DUNS number is easy to obtain and there is no charge. To obtain a DUNS number, access http://www.dnb.com or call 1-866-705-5711.

Budget Information for SF-424A. Standard Form 424A must contain a detailed cost break out on each of the expenditures under Section B of the form, including Federal and non-Federal funds. Copies of all required forms along with the instructions for completing the forms are provided at the appendices of this SGA.

Note: The Application for Federal Assistance (SF424) and the Budget Information Form (SF-424A) are available at http://www.grants.gov/GovtWideForms.

Indirect Cost Rate. An indirect cost rate is required when an organization operates under more than one grant or other activity whether Federally-assisted or not. Organizations must use the indirect cost rate supplied by the cognizant Federal agency. If an organization requires a new indirect cost rate or has a pending indirect cost rate, the Department's Grant Officer will award a billing rate for 90 days until a provisional rate can be issued.

Cost Categories. Expenditures must fall under one of two cost categories: Administrative, which is to be divided between headquarters and local, and Program Costs, which includes wages, fringe benefits, and other participant costs.

Sufficient Local Funding. The OAA, at section 502(b)(1)(R) requires each grantee to allocate funding for administrative costs incurred at subrecipient levels for program administrative activities. In addition, grantees may not require a subgrantee to contribute financial resources to program operations as a condition of operating the program. Please see 20 CFR 641.861 and 641.809(e) for further information.

Transition and Training Costs. Applicants are required to provide a line item for transition costs (i.e., start-up [costs], participant transfers, year-end closeout), as well as for sufficient training costs for local staff that may be required by the Department throughout the program year. Procurement procedures must comply with OMB Circular A-122.

Required Attachments. Assurances, Certifications, Signature page and Disclosure of Lobbying Activities form are required.

Note: The cost proposal must be prepared to cover program costs for one (1) year of operation only.

C. Submission Dates, Times, and Addresses

Applications may be submitted in either method described below but must be received no later than 4:45 p.m., Eastern Time on the closing date. The application will not be considered if an applicant fails to adhere to the submission instructions below.

Electronic Submissions. The Department requests that applicants apply online at http://www.grants.gov. The Department strongly recommends that applicants initiate and complete the “Get Started” steps to register with grants.gov at http://www.grants.gov/GetStarted. Please note that these steps could take several days to complete, which should factor into an applicant's submission timing to avoid the rejection of an application due to potential delays. Documents should be saved as .doc or .pdf prior to electronic submission through grants.gov.

U.S. Postal Mail and Overnight Submissions. Submit one (1) blue-ink signed, typewritten original of the application, and two signed photocopies in one package to: U.S. Department of Labor, Employment and Training Administration, Attention: James Stockton, Mail Stop N-4716, 200 Constitution Avenue, NW., Washington, DC 20210.

Other Methods of Submission. Applications submitted by e-mail, telegram, or facsimile will not be accepted.

Late Applications. Any application received after the closing date will not be considered, unless it is received before awards are made and:

(a) It was sent by U.S. Postal Service registered or certified mail not later than the fifth calendar day before the closing date (e.g., an application required by the 20th of the month must be postmarked by the 15th of that month); or

(b) It was sent by U.S. Postal Service Express Mail/Next Day Service from the post office to the addressee no later than 4:45 pm at the place of mailing, two (2) working days (excluding weekends and Federal holidays and days when the Federal Government is closed), prior to the closing date; or

(c) It is determined by the Government that the late receipt was due solely to the mishandling by the Government after receipt at the U.S. Department of Labor at the address indicated.

Acceptable Evidence for Late Applications. The only acceptable evidence to establish the date of mailing of a late application sent by registered or certified mail is the U.S. Postal Service postmark on the envelope or wrapper and on the original receipt from the U.S. Postal Service. If the postmark is not legible, an application received after the closing date and time shall be considered as if mailed late.

The only acceptable evidence to establish the date of mailing of a late application sent by U.S Postal Service Express Mail/Next Day Service from the post office to the addressee is the date entered by the Post Office receiving clerk on the “Express Mail/Next Day Service—Post Office to Addressee” label and the postmark on the envelope or wrapper on the original receipt from the U.S. Postal Service.

“Postmarked” means a printed, stamped, or otherwise placed impression (exclusive of a postage meter machine impression) that is readily identifiable, with further action, as having been supplied or affixed on the date of mailing by an employee of the U.S. Postal Service. Therefore, applicants should request the postal clerk to place a legible hand cancellation “bull's eye” postmark on both the receipt and the envelope or wrapper.

Mail Advisory in the DC Area. All applicants are advised that U.S. mail delivery in the Washington, DC area is erratic. Packages addressed to the U.S. Department of Labor are subject to radiation before delivery. All applicants must take this into consideration when preparing to meet the application closing date, as each applicant assumes the risk for ensuring a timely submission of its application. The Department recommends that applicants confirm receipt of their applications by contacting James Stockton, U.S. Department of Labor, Employment and Training Administration, Office of Grants and Contract Management, telephone (202) 693-3335 before the closing date. [This is not a toll-free number.]

Applications may be withdrawn by written notice or telegram (including mailgram) at any time before the Department makes an award. An applicant may withdraw its submissions in person by the applicant or through an authorized representative of the applicant if the applicant makes the representative's identity known to the Grant Officer and the representative signs a receipt when he or she receives the withdrawn application.

D. Intergovernmental Review

This program is subject to Executive Order (E.O.) 12372, “Intergovernmental Review of Federal Programs.” Each applicant must contact the office or official designated as the Single Point of Contact (SPOC) in each applicable state for information on the process the state requires to be followed in applying for assistance. In some cases the SPOC may not have selected the SCSEP for review. Names and addresses for the SPOCs are listed in the Office of Management and Budget (OMB) at http://www.whitehouse.gov/omb/grants/spoc.html. Additional information on Executive Order 12372 can be found at http://www.fws.gov/policy/library/rgeo12372.pdf.

E. Funding Restrictions

The minimum funding requirement must be at least 10 percent of the state allocation or $1,600,000 (approximately 224 slots), whichever is greater. Applicants are also required to apply for contiguously located counties within a state, unless an applicant can meet the greater of $1,600,000 or 10 percent state allocation, within a single county. Applicants should follow the minimum request for funding guidance found in Section II.B.

F. Other Submission Requirements

Each applicant must submit a copy of the technical proposal (including the chart of service areas but no other attachment requirements) and the SF-424 to the Governor in each state that it proposes to serve before submitting an application to the Department as required by section 503(a)(5) of the OAA Amendments and 20 CFR 641.410. Under this provision, the Governor of each state may submit a recommendation to the Secretary relating to the anticipated effect of an applicant's proposal on the overall distribution of positions within the state; recommendations for redistribution of positions to under-served areas (i.e., Equitable Distribution); and recommendations for distribution of any newly available positions. The Department will not consider comments that are outside the scope of this provision.

Please note that Governors are not required to provide comments to applicants. Therefore, applicants should not wait for communication from the Governor before submitting the application to the Department.

Applicants submitting as an Indian (“I”) grant are not required to submit copies of their applications to the Governors under this section, but are encouraged to voluntarily comply with this provision.

V. Application Review Information

A. Evaluation Criteria

All applicants are required to use the Rating Criteria format when developing their proposals. The technical panel will review grant applications against the criteria listed below on the basis of 100 maximum points. In order to receive full credit, applicants must provide quality information that does more than reiterate the requirement statement or merely state how it will be accomplished. Therefore, responses must be thoughtful and reflect a strategic vision for how these requirements will be achieved. In addition, an applicant that describes only what has been accomplished in the past but lacks a full description of what it will do during the grant period will not receive credit for that response.

Points Summary:

1. Design and Governance—15 points.

2. Program and Grant Management Systems—10 points.

3. Financial Management System—10 points.

4. Program Service Delivery—40 points.

5. Performance Accountability—25 points.

Total—100 points.

1. Design and Governance: (15 Points)

Strategic Planning. The applicant must demonstrate how it will develop and implement a strategic approach to meeting business and industry needs for a prepared and competitive workforce through a demand-driven approach.

Applicants may wish to consider the following when formulating a response:

• Strategies for consulting with business leaders from the state and local area in forming and managing demand-driven approaches and strategies.

• Strategies for functioning as a partner with the public workforce system, business and industry, economic development agencies, and education and training providers, including community colleges.

• Strategies for identifying high-growth business and industries, the workforce needs, and the skills and competencies needed to perform jobs in these key business areas.

Service Design. The applicant must describe its service delivery system design that will accomplish its strategic objectives for helping older workers.

Applicants may wish to consider the following when formulating a response:

• Resources within the organization including services, skills, expertise and monetary resources, or through partners, contributors, or vendors that will enhance the program.

• Services to targeted industry employers and host agencies, including any strategies to prevent maintenance of effort violations.

• Process for determining the needs of employers that assist employers in training and retaining older workers to meet that need.

• Strategies for leveraging the workforce system's resources over the grant period to create human resource solutions for employers.

Program Integration. Applicants must describe how integration will be supported, codified in policy, measures, and demonstrated at the leadership level of the organization.

Applicants may wish to consider the following when formulating a response:

• Strategies for engaging senior level leadership (including board members, if applicable) in support of program integration into the larger workforce investment system.

• Strategies for coordinating with the public workforce system, SCSEP State Coordinators, area agencies on aging, 502(e) grantees, as applicable and other SCSEP grantees that also serve in the state.

• Strategies for ensuring negotiated MOUs that improve the delivery of services to low-income older workers in every local area of operation and that resolve impasse situations prior to seeking Federal assistance.

2. Program and Grant Management Systems: (10 Points)

Administrative Controls. The applicant must demonstrate that its administrative controls are sufficient to ensure grant integrity.

Applicants may wish to consider the following when formulating a response:

• The policies and procedures that are in place or will be in place to manage core functions and program operations.

• The monitoring tools and procedures that will be used to track grant operations against performance objectives and compliance with uniform administrative requirements. Consideration may also be given to how often monitoring will occur, and under what circumstances.

Personnel. The applicant must describe how the management structure and staffing of the organization are aligned with the grant requirements, vision, and goals, and how the structure and staffing are designed to assure responsible general management of the organization.

Non-Federal Share. The applicant must describe its policies and procedures to meet non-Federal share requirements, including the use of leveraged resources.

Procurement. The applicant must demonstrate that its procurement actions are conducted according to Federal requirements.

The following must be included in the response:

• Applicants must describe written procurement policies and procedures and the extent to which they provide for “full and open competition.”

• Applicants must describe the procedures for the competition and selection of subrecipients, if applicable.

Reporting Systems. The applicant must describe how Enterprise Business Support System (EBSS, formerly EIMS) will be used to fulfill financial and programmatic requirements and how data collection and the SCSEP Performance and Results QPR (SPARQ) system will be implemented and populated to meet reporting requirements and track program performance. For information on SPARQ, go to http://charteroakgroup.org/resources/scsep.shtml.

Applicants may wish to consider the following when formulating a response:

• How financial data will be used to drive program performance, including tracking the minimum 75 percent wages and fringe benefits expenditure requirement, the remaining 13.5 percent administrative expenditure requirement, the use of the remaining funds for other participant costs, and the enrollment of participants.

3. Financial Management System: (10 Points)

Budget Controls. The applicant must describe its method for tracking planned expenditures that will allow it to compare actual expenditures or outlays to planned or estimated expenditures. The following information must be included in the response:

• Applicants must describe the process that will be in place to compare planned and actual expenditures on a regular basis, including whether the applicant has a formalized process for comparing and analyzing planned and actual costs.

• Applicants must also describe the strategies to ensure that obligations do not exceed available funds.

Internal Controls. The applicant must describe how it will ensure effective control, integrity and accountability for all grant and subrecipient grant assets.

4. Program Service Delivery: (40 Points)

Participant Recruitment. The applicant must describe how it will broaden local awareness of the program in order to recruit eligible individuals to the program.

The following must be included in the response:

• Applicants must describe the outreach efforts that will be made in local communities to raise awareness of the program. Please include a description of the various methods of outreach that will be utilized.

• Applicants must describe how outreach efforts will be designed to encourage low-income older individuals age 55 or over to enroll in the program. Please include a description of how the outreach efforts will be specifically designed to attract priority individuals age 60 and over, and those individuals who should be given special consideration—e.g., those with multiple barriers to employment, and individuals with poor or no employment history or prospects consistent with the regulations at 20 CFR 641.520 and 641.525.

• Applicants must describe how recruitment goals for the target population will be consistently met. Applicants must also include a description of how they will ensure that all vacant positions remain filled as program participants exit for unsubsidized employment.

Participant Eligibility. The applicant must describe how it will ensure that individuals applying to be program participants and continuing program participants meet the eligibility criteria to enroll or remain in the program.

The following must be included in the response:

• Applicants must describe their procedures to ensure the accuracy of the individual's income and age eligibility. Applicants must include a description of how often eligibility will be certified.

• Applicants must describe their procedures to ensure that the individual is unemployed at the time of enrollment and while enrolled in the program.

• Applicants must describe how ineligible individuals will be notified of their ineligibility and any other action that the applicant may implement. This response must describe both pre-enrollment and post-enrollment situations.

• Applicants must describe their plans for ensuring that the veterans' priority and SCSEP priorities are properly implemented when there is a wait list for services.

Assessments and IEPs. The applicant must describe how it will continuously assess program participants using the IEP and other assessment tools to ensure participants are trained for viable employment opportunities.

The following must be included in the response:

• Applicants must describe how often assessments and IEPs will be completed.

• Applicants must describe how the training and services reflected on the IEP will enhance and improve the participant's skills and lead to higher level skills that will enhance employability.

• Applicants must describe any procedures that will be in place to ensure that the participant acknowledges and agrees with the training plan.

• Applicants must describe how assessments will capture the assistance that participants may need, including those services that will be acquired through other programs, such as disability programs, veteran programs, aging programs, transportation programs or services, etc.

• Applicants must describe policies that will be implemented to assure that local projects consistently document activities and execute the plans established by the assessments and IEPs.

• Applicants must identify whether felony background checks will be required for all participants and if so, how this requirement will be applied consistently to all participants, and where the information will be maintained.

Orientation. The applicant must describe how it will introduce program participants and host agencies to program requirements, roles and responsibilities, and permissible and impermissible activities. Please include general timeframes for when orientation will occur and how often.

Community Service Work-Based Training. The applicant must describe how participants will be trained through community service organizations, how it will ensure that the work-based training is of high quality, and how this training will lead to unsubsidized employment.

The following must be included in the response:

• Applicants must describe how host agency organizations will be recruited and selected, including the factors that will be used to determine whether the host agency will provide quality job training.

• Applicants must describe how assignments to community service work-based training will be made to ensure that the training is consistent with the participant's IEP, including a description of the contractual relationship that will exist between the applicant and the host agency.

• Applicants must describe plans for ensuring that participants are only placed in work-based training assignments that are in addition to employment opportunities that would be available without assistance under the OAA. Please include a description of the action steps that will take place if a maintenance of effort violation is discovered.

• Applicants must describe plans for ensuring appropriate community service work-based training assignments for ex-offenders.

• Applicants must describe how local projects will ensure that participants receive adequate supervision during training hours.

• Applicant must describe procedures for rotating participants to other host agency assignments, if the applicant intends to implement a participant rotational requirement.

• Applicants must describe plans and procedures for documenting and ensuring that host agencies are either public agencies or have 501(c)(3) designation, and how such records will be maintained.

• Applicants must describe procedures for terminating host agency relationships and the circumstances that would create cause for termination—e.g., maintenance of effort violations, inaccurate timekeeping, poor training opportunities, failing to fulfill contractual responsibilities, etc.

Other Training. The applicant must describe any training that will be offered, required, and/or provided to program participants and host agencies.

The following should be included in the response:

• Applicants should describe plans for ensuring regular training of staff on program operations, new initiatives, and innovative ideas.

• Applicants should describe the types of permissible training that will be offered to participants. Please include a description on how training will be paid from other sources to leverage program training opportunities, and how often the training will be offered.

• Applicants should describe how computer training will be provided to participants, and how community colleges will be utilized for computer and other training opportunities.

• Applicants should describe how the training identified will lead to employment opportunities that would not have otherwise been available to the participant.

Fringe Benefits. The applicant must describe any permissible and/or required fringe benefits that will be offered to participants and how it will terminate (“zero-out”) any permissible fringe benefits at the end of each program year. If no permissible fringe benefits will be offered, the applicant must provide a statement to that effect.

Supportive Services. The applicant must describe any supportive services that will be offered to participants and the additional resources the applicant will use to support those services. The applicant must also address those supportive services that will be offered to participants once they are placed in an unsubsidized job in order to help retain them in those positions.

Unsubsidized Employment. The applicant must describe how it plans to place participants in high growth jobs according to local labor market data. In addition, the applicant must describe how the targeted jobs will enable participants to become self-sufficient in positions for which they would not have otherwise had the necessary skill training provided by the program. Applicants should include in this description the types of jobs it will seek for participants. A chart may be attached if necessary.

Termination. The applicant must describe the circumstances under which a participant may be terminated from the program, including its maximum duration policy (if any), for cause, or other reasons. Please include description of the criteria that will be used for “for cause” terminations.

Transition to Minimize Disruptions. The applicant must describe how participants will be transitioned to and from a service provider if the grant is terminated for any reason, including loss of funds through a competitive process, in a manner that is least disruptive to program participants.

The following must be included in the response:

• Applicants must address how participant files will be transferred to a new provider.

• Applicants must address how new offices will be established within short timeframes, if necessary, to ensure seamless services. A short timeframe is defined as 2 weeks to 1 month.

• Applicants must address how participants will continue to be paid during the transition from the incumbent provider to the new provider.

• Applicants must address how complete cooperation of local staff will be ensured to complete a smooth transition.

• Applicants must describe how the transition of participants to and from service providers will occur to ensure a smooth transition. Please include a description of how and when participants will receive notification and/or other communication informing them of the transition.

Confidentiality of Files. The applicant must describe how participant files will be kept confidential from personnel not affiliated with the project. If the applicant plans on enlisting volunteer assistance, the applicant must describe how it will ensure volunteer compliance with the confidentiality requirements.

Complaint Resolution Process. The applicant must describe the complaint resolution process that will be in place for program applicants, participants and/or host agency complaints or grievances without Federal intervention. For complaints involving illegal acts or discrimination, the applicant must describe the complaint resolution process that will be in place for participants and/or host agencies prior to Federal appeal.

5. Performance Accountability: (25 Points)

Performance Management. The applicant must describe how it will monitor funding and program activities to achieve the performance measures.

Applicants may wish to consider the following when formulating a response:

• Implementation of plans that guide the daily work of staff and that identify project goals, activity levels, spending targets and timeframes to achieve grant goals.

• Ensuring that spending will occur at a rate consistent with the amounts budgeted through the most recent quarter being reviewed.

• Strategies for ensuring that performance measures are met or exceeded.

• Procedures that will be in place to communicate high or low performance to staff and local projects or subrecipients.

• Actions that will be taken to improve low performance.

• Strategies for ensuring that subrecipient performance goals are met and actions that will be taken to address poor performance.

B. Review and Selection Process

Selection Process. The Grant Officer will organize several panels that include three individuals per panel to review the applications. The panels will use the point scoring system and the Rating Criteria format specified in Section A above to evaluate each application. The Grant Officer will rank applications based on the score assigned by the panels through the evaluation process. The ranking will be the primary basis used to identify applicants as potential grantees; however, the panel's conclusions are advisory in nature and are not binding on the Grant Officer.

Other Evaluation Factors. The Department may establish a range, based upon the application evaluation, for the purpose of selecting qualified applicants and to ensure that the best applicants are awarded grants.

The Grant Officer may take into account an applicant's demonstration of past program, financial and administrative capability in administering Federal grants or contracts during the past three (3) years. The Grant Officer may also take into account the applicant's key personnel and staffing plans. The lack of prior SCSEP experience will not disadvantage applicants.

The Department further reserves the right to select applicants out of rank order if such a selection would result in the most effective and appropriate combination of funding; administrative costs (e.g., cost per enrollment and placement); program goals (e.g., serving the needs of minorities, limited English speakers, Indian eligible individuals, and those of greatest economic need); service coverage; and statutory requirements.

VI. Award Administration Information

A. Award Notices

The Department anticipates completing its review and ranking proposals by mid-May 2006. The Grant Officer expects to announce the results of this competition in mid- to late-May 2006. Applicants may appeal a Grant Officer decision according to the provisions outlined at 20 CFR 641.900.

B. Administrative and National Policy Requirements

All grants will be subject to the following administrative standards and provisions, as applicable to the particular grantee and/or sub-awardee:

• 29 CFR part 2, subpart D—Equal Treatment in Department of Labor Programs for Religious Organizations; Protection of Religious Liberty of Department of Labor Social Service Providers and Beneficiaries.

• 29 CFR part 30—Equal Employment Opportunity in Apprenticeship and Training.

• 29 CFR part 31—Nondiscrimination in Federally Assisted Programs of the Department of Labor—Effectuation of Title VI of the Civil Rights Act of 1964.

• 29 CFR part 32—Nondiscrimination on the Basis of Handicap in Programs or Activities Receiving Federal Financial Assistance.

• 29 CFR part 33—Enforcement of Nondiscrimination on the Basis of Handicap in Programs of Activities Conducted by the Department of Labor.

• 29 CFR part 35—Nondiscrimination on the Basis of Age in Programs and Activities Receiving Federal Financial Assistance from the Department of Labor.

• 29 CFR part 36—Nondiscrimination on the Basis of Sex in Education Programs or Activities Receiving Federal Assistance.

• 29 CFR part 37—Implementation of the Nondiscrimination and Equal Opportunity Provisions of the Workforce Investment Act of 1998 (WIA)

• 29 CFR part 93—New Restrictions on Lobbying.

• 29 CFR part 94—Government-wide Requirements for Drug-Free Workplace (Financial Assistance).

• 29 CFR part 95—Grants and Agreements with Institutions of Higher Education, Hospitals, and other Non-Profit Organizations, and with Commercial Organizations.

• 29 CFR part 96—Audit Requirements for Grants, Contracts, and Other Agreements.

• 29 CFR part 99—Audit of States, Local Governments, and Non-Profit Organizations.

• Applicable cost principles and audit requirements under OMB Circulars A-21, A-87, A-110, A-122, A-133, and 48 CFR part 31.

C. Reporting

Data Collection System. All selected grantees must collect and report all SCSEP data requirements according to specified time schedules. Each grantee will be required to use the new OMB approved SCSEP Data Collection System (SPARQ) unless the grantee has a method for uploading information into SPARQ that, for all intents and purposes, provides the seamless population of data in SPARQ as if it were entered directly into the system. SPARQ tracks participant records beginning at the time of enrollment. SPARQ has other case management capabilities, although the primary use of SPARQ is to track participant training and employment, generate Quarterly Progress Reports (QPR), alert grantees when follow-ups are required, and lead grantees to program improvement. Applicants must ensure that all local providers will have high-speed Internet access and the ability to use SPARQ. For a preview of the SPARQ system, applicants may visit http://dol.saic-solutions.com/sparq2prototype/index.html.

For financial data, grantees are required to use the EBSS. Grantees must submit quarterly financial reports using the SF-269.

Negotiated Performance Measures. In PY 2006, each grantee will be subject to negotiated performance measures. All national grantees must meet the state goals in each state in which they operate. Please see Appendix I for the list of state goals established for PY 2005.

Incumbent grantees that are successful in this competition will have performance measures that reflect prior performance and previously established goals. Adjustments may be negotiated based on factors such as populations with barriers to employment and poverty and unemployment in the new areas served. Incumbents' PY 2006 performance measures will continue into the second year of the three-year sanction and incentive cycle.

For new grantees, PY 2006 will be a baseline year for establishing goals at the national grantee level. They will be assigned national grantee goals that are the proportional aggregation of the state goals where they operate. New grantees will be subject to the incentives and sanctions cycle beginning in PY 2007, if the initial one-year grant period is extended.

The performance measures that apply to the program are listed below. Please note that the program also collects information on the common performance measures that apply to all ETA programs.

The performance measures that apply to the program are as follows:

Placement into Unsubsidized Employment: Grantees must place a minimum of 20 percent of the individuals in authorized slots into employment. The national goal is 30 percent.

Retention in Unsubsidized Employment: The national goal for retention is currently 55 percent. Retention is measured by determining the number of placed participants that remain employed 6 months after the first quarter they exit the program.

Participation Service Rate: The national service rate goal for Program Year 2005 is 160 percent. This represents the number of participants served beyond the number of authorized slots. For example, using the current program goal, a grantee that has 100 slots will be required to serve at least 160 people during the program year.

Service to the Most in Need: Grantees are required to give special consideration to enrolling individuals who qualify as having the greatest need. The current national goal is 67 percent.

Community Services: This measure represents the number of hours a participant spends in community service work-based training assignments. This measure does not currently have a goal and is not subject to sanctions.

Customer Satisfaction: The satisfaction of participants, employers and host agencies is a required performance measure and is measured using the American Customer Satisfaction Index (ACSI) questions in addition to other questions that are designed to provide useful feedback on program operations. Only the 3 ACSI scores are used in the performance measures to ease the burden on grantees. The Department currently utilizes a mail house with grantee letterhead and electronic signature to organize survey samples from participant and host agencies. Grantees must meet a minimum sample size and response rate to have a valid sample.

Earnings: The Department plans to establish an average earnings measure.

VII. Agency Contacts

James Stockton, Grant Officer of the Division of Federal Assistance, at (202) 693-3335.

[This is not a toll-free number.]

VIII. Other Information

A. Notice to Incumbent National Grantees and State Grantees

With the publication of this SGA, incumbent national grantees and state grantees are notified that no slot movements due to Equitable Distribution or for other reasons will be approved until the completion of the competition.

B. Bidders' Conference

The Department is planning on holding a webinar in lieu of the traditional bidders' conference format in order to reach more interested organizations and to reduce costs. Bidders will be able to access information on the date and time of the bidders' conference at http://www.doleta.gov/Seniors.

C. Questions about the Program or SGA.

Individuals may submit questions about the program or information in this SGA to the Department by faxing the question(s) to:James Stockton, Grant Officer. Facsimile Number: 202-693-2879.

Please note the SGA number on all submitted questions (SGA/DFA PY 05-06). Please also include your name, facsimile number and contact number on your submission.

Responses will be posted on the Employment and Training Administration Web site at http://www.doleta.gov/seniors. Questions will be received for one month after publication only. The Department will not respond to duplicate questions or questions that are not within the scope of this SGA. Please do not direct questions to the Division of Older Worker Programs.

D. Post-Selection Negotiations and Requirements

A successful applicant may be required to negotiate with the Department on the geographic areas it will serve to ensure that grantees serve contiguous counties within a state and that all geographic areas continue to be served. Therefore, a successful applicant may not be awarded all areas that it proposes to serve, and may be required to serve one or more counties not identified in its application. The Department will assure that all areas currently served continue to be served through the selection and negotiation processes. The Grant Officer expects to negotiate the final assignments of slots by the end of May.

In addition, all successful applicants will be required to produce verification of workers' compensation coverage for the participants, and will negotiate performance goals with the Department that will be included in the grant agreement. Successful applicants may want to consider grouping resources under an umbrella insurance plan to minimize the costs to any one organization of workers compensation costs.

In order to receive a grant, successful applicants must make any mandatory changes to the application requested by the Grant Officer before the Department makes an official grant award.

E. Transition of Participants

The Department expects the transition period from incumbent grantees to new providers to take place from June 1-June 30, 2006. Currently, participants occupy nearly all SCSEP positions. If transitions are made from one grantee to another as a result of this competition, the enrolled participants must be given the opportunity to continue in the program. Therefore, by applying for funds under this SGA, selected applicants agree to offer incumbent SCSEP participants the first opportunity to continue in the SCSEP authorized position in the grantee's program (i.e., “right of first refusal”). As such, selected grantees must offer incumbent SCSEP participants the opportunity to continue in the SCSEP in the same geographic area, and in the same host agency for up to 90 days. At the end of the 90-day period, selected grantees may choose to move participants into new host agencies, or they may continue to utilize the current host agencies. Participants may not remain with an incumbent grantee that is no longer serving in that area.

The Department is committed to minimizing disruptions to the extent possible, and the requirements that applicants and grantees must meet reflect this commitment. The Department will work with grantees to promote a seamless transition if there is a new grantee in an area. The Department will support the transition by providing technical assistance, participant and host agency data, and pre-award cost approval, in accordance with 29 CFR part 95 and the applicable cost principles in OMB Circular A-122, prior to the start of the grant period.

Successful applicants and incumbent grantees will be required to ensure minimum disruptions to participants, including continuous payments during the transition. Therefore, the Department expects new grantees to assume payroll responsibilities on July 1, 2006. Successful applicants must plan to make the first payment to participants in the first or second week of July 2006.

F. Transition Roles and Responsibilities

The Department

In addition to the responsibilities described throughout this SGA, the Department will be responsible for:

• Convening a national SCSEP Program Year 2006 Orientation and Training conference to inform all national grantees about program administration and management. (The estimated date of this conference is mid-June.);

• Institution of regularly scheduled conference calls that include national and regional Department staff and national grantees; and

• Provision of an appropriate script for Customer Service Representatives at the Toll-Free Help Line national call center to respond to questions from participants and other interested parties about the transition.

State Grantees

State grantees have coordination responsibilities to ensure that services are adequately provided across the state. This opportunity is the Department's attempt to include state coordinators in this process, which also facilitates the working relationship the state coordinators will have with any providers in the state. In addition, this process will assist the state coordinators with their Equitable Distribution report requirements as well as local board MOU negotiation responsibilities.

Therefore, the Department will expect state coordinators to assist with the transition of national grantees to ensure a smooth transition for participants. Specifically, state coordinators should:

• Hold a meeting (by conference call if necessary) with the incumbent and new national grantee(s) to discuss the transition process and timelines;

• Ensure that positive communications are presented to participants regarding the transition;

• Alert the responsible national grantee organization when a complaint is made to the state office regarding the transition;

• Reassure participants who are concerned about the transition process;

• Assist with turnover of records to the new national grantee, if necessary; and

• Report issues that cannot be resolved to the Department.

National Grantees

The national grantees will be responsible for:

• Maintaining open lines of communication with the states and attending any state or Federally scheduled conference calls;

• Ensuring that all participants have the right of first refusal regarding new work-based community service assignments for up to 90 days;

• Ensuring that check payments to participants are made in a timely manner;

• Determining how and when participants will be notified of changes;

• Establishing procedures to transfer records, as applicable;

• Maintaining privacy of individual records; and

• Establishing a mechanism for the PY 2006 national grantees to communicate among themselves.

G. Appendices

Appendix A: Application for Federal Assistance, Standard Form 424

Appendix B: Budget Information Sheet, Standard Form 424A

Appendix C: Standard Form 424A Clarifying Instructions

Appendix D: Assurances and Certifications Signature Page

Appendix E: Standard Form LLL, Disclosure of Lobbying Activities

Appendix F: Current County and State Authorized Positions

Appendix G: States that Require 10 Percent Minimum Bid

Appendix H: PY 2005 Levels of Funding for Current National Grantees

Appendix I: List of State Performance Measures in PY 2005

Appendix J: List of Resources

Appendix K: Positions Bid Form

Signed at Washington, DC, this 22nd day of February, 2006.
Emily DeRocco,
Assistant Secretary, Employment and Training Administration.

BILLING CODE 4510-30-P

BILLING CODE 4510-30-C

Appendix C: Standard Form 424A Clarifying Instructions

Budget Information Instructions

Part 2 of the proposal should be titled “PART II—PROPOSED PROJECT BUDGET.” The applicant must prepare the proposed budget using Standard Form (SF) 424A (available in Adobe Acrobat format at http://www.doleta.gov/seniors/other_docs/SF424a.pdf.) or a comparable format.

Sections A, B, C, and D of the Budget Information Form should include budget estimate for the entire grant Period. Sections A and B require information on the four basic grant functional areas: (1) Administration; (2) Local Administration; (3) Participant Wages and Fringe Benefits; and (4) Other Participant Costs. Costs attributable to these function areas are described in the regulations. (See also 20 CFR 641.847-641.873). Applicants must ensure that the proportional distribution of the Federal funds among these functional areas meets the program requirements.

The following instructions are intended to clarify the process of completing the SF-424 grant application and the SF-424A budget form. The current regulations should be reviewed as well as OW Bulletin No. 00-20, Allocation of Indirect Costs, and OAA Amendments sections 502(b)(3)-(b)(4). Local Administration includes estimated sums associated with the administration of state and Local SCSEP project activities including subgrantees, subcontractors, or other affiliates (OAA Amendments section 502(b)(1)(R)). Sufficient funding for administrative costs must go to the local levels of program operation.

Clarifying Instructions for Standard Form 424

If additional space is needed to complete an item, insert an asterisk and use an extra sheet of paper. For the most part, this form is self-explanatory. Complete all applicable items.

Item 12. List the counties with the number of authorized positions to be placed in each one. If the space on the form is not sufficient, please continue on a separate page. This list must be consistent with the appropriate current individual State Equitable Distribution plans.

Item 15. The Federal funding for Program Year 2005 for all State applicants is listed in Attachment V or may be obtained by calling your primary contact.

Clarifying Instructions for Standard Form 424-A

Section A—Budget Summary

Lines 1-4, Columns (a) and (b). Under Column (a), enter the following:

Line 1—“Administration”

Line 2—“Local Administration”

Line 3—“Participant Wages and Fringe Benefits (PW/FB)”

Line 4—“Other Participant Costs (OPC)”

Under Column (b) on Line 1, enter “17.235”.

Lines 1-4, Column (c) through (g). Leave Columns (c) and (d) blank. For each line entry under Column (a), enter in Columns (e) (Federal), (f), (Non-Federal) and (g) the appropriate amounts of funds needed to support the project for the grant period.

Line 5. Show totals for all columns of the non-Federal funds. The non-Federal share must be no less than 10 percent of the total cost of the project. The legislative requirement is found in section 502(c)(1) of the OAA Amendments. Rules regarding States and non-Federal funds are found in the administrative regulations, 29 CFR Part 97. Please indicate as a remark (on Line 23) the specific source(s) and amounts (if known) of any non-Federal funds and include this information in the detailed cost breakout.

Section B—Budget Categories

In the column headings at Line 6 titled “Object Class Categories” (1) through (4), enter the titles of the grant functional areas (Administration, Local Administration, PW/FB, and OEC) shown on Lines 1-4, Column (a), Section A. For each functional area fill in the total funds needed (Federal plus non-Federal) by object class categories. The object class categories are those listed in lines 6(a) through 6(k) including totals.

Lines 6a through 6h. Show the estimated amount (include the combined Federal and non-Federal share) for each direct object class category under each column used. All costs to be incurred under contracts or subgrants should be reflected in line 6f (Contractual). The costs to be incurred under individual contracts or sub-grants must be properly attributed among the three basic functional areas (i.e., Administration, Local Administration, PW/FB, and OPC). Under the PW/FB column (Participant Wages and Fringe Benefits), entries may be made in three object class categories: “Personnel” (Participant Wages), “Fringe Benefits” (Participant Fringe Benefits), or “Contractual” (when funds for participant wages and fringe benefits are to be included in contracts or subgrants).

Line 6i. Show the total of entries made for lines 6a through 6h in each column.

Line 6j. Show the amount of indirect costs. A copy of the current indirect cost rate agreement must be sent with the application. If it is not available please provide an explanation and an estimate as to when it will be available.

Line 6k. Enter the totals of the amounts indicated on lines 6i and 6j. For all applications, the total amount in Column (5), Line 6k, should be the same as the total amount shown in Section A, Column (g), Line 5.

Line 7. Enter the estimated amount of income, if any, expected to be generated from this project. Do not add or subtract this amount from the total project amount. Under the project narrative statement describe the nature and source of such income. Note: Income generated by SCSEP projects must be used for SCSEP activities.

Section C—Source of Non-Federal Resources

Line 8. Enter amounts of non-Federal resources that will be used in the grant.

Column (a). On Line (8) Column (a) only, enter “SCSEP” (Senior Community Service Employment Program). A breakdown by functional areas is not necessary. Use Line (8) for entries under all columns.

Column (b). Enter the amount of applicant cash and/or in-kind contributions to be made.

Column (c). Enter the State(s) contribution. This requirement does not apply to State grantees.

Column (d). Enter the amount of cash and/or in-kind contributions to be made from all other sources.

Column (e). Enter totals of Columns (b), (c), and (d). The amount under Column (e) should be equal to the amount on Line 5, Column (f), Section A.

Line 12. Under each column enter the same figure entered in Line (8).

Section D—Forecasted Cash Needs

Make no entries.

Section E—Budget Estimates of Federal Funds Needed for Balance of Project

Make no entries.

Section F—Other Budget Information

Line 21—Direct Charges. In the space provided type “A Detailed Cost Breakout is Attached.”

A Detailed Cost Breakout is required with the Grant Application Package. All applicants should prepare this and have available for inspection the basis for their estimated costs by line item (including the detail for the “Other” line item). The cost breakout should reflect the SF-424A so that totals match for both the form and the detailed breakout. Information should be presented by line item and category. Applicants are encouraged to describe any extraordinary item such as planned conferences, travel, and unusual expenses.

It is important that the cost breakout demonstrate how costs are distributed vertically as well as horizontally, showing costs that occur at the local levels. The detailed cost breakout should also indicate the specific kind of non-Federal resources; for instance, the provision of office space or the salaries of project staff.

The applicant may consult with the Federal Project Officer regarding the needed level of detail. In categorizing costs and their applicability, all sponsors must follow OAA 2000 Section 502(c) and the Regulations at 20 CFR Part 641 Subpart D, sections 641.847-641.876. Please also see the discussion of administrative costs in the One-Stop Comprehensive Financial Management Guide at http://wdsc.doleta.gov/sga/pdf/FinalTAG_August_02.pdf, pages II-5-3 to II-5-6.

Other considerations: Successful applicants may be expected to attend Department-sponsored training and should prepare their budgets accordingly. It will also be useful to budget amounts for training, software and new computers (including Internet access) related to new reporting requirements. NOTE: Applicants must have current computer technology and ensure that their organizations have the capability to link to the Internet. Reporting will be done via the Internet.

When applicants divide costs between the “Administration” and “Other Participant Costs” Categories for the same cost item (such as a local project director), they should describe the basis for that division and include mention of any surveys used to determine the allocations. The Department of Labor reserves the right to require additional information on any budget line item or cost category.

Line 22—Indirect Charges. Enter the type of indirect rate (provisional, predetermined, final, or fixed) that will be in effect during the grant period, and the nature and the amount of the base to which the rate is applied, and the total indirect charges. Include a copy of your agency's approved indirect cost rate agreement. It should cover the entire grant period. If not, state that a new one will be provided when available.

Applicants that have not previously used an indirect cost rate but wish to do so must contact the Grant Officer, who will advise the grant applicant of the documents and materials that must accompany the grant application in support of the request. Where indirect charges are approved, the terms and conditions relating to the payment of indirect costs, which are subject to negotiation by the Department, will be specified in the grant document.

Line 23—Remarks. Provide any other explanations or comments deemed necessary, such as specific sources of non-Federal funds. It is also suggested that the words “See Attached Detailed Cost Breakout” be entered in this section.

Appendix D: Assurances and Certifications Signature Page

THE GRANT CONDITIONS AND CLAUSES WILL BE PROVIDED TO GRANTEES BY THE DIVISION OF FEDERAL ASSISTANCE (GRANT OFFICER) ALONG WITH A GRANT SIGNATURE SHEET AND PACKAGE FOR THE GRANTEE'S SIGNATORY OFFICIAL. SHOULD THERE BE ANY INCONSISTENCY BETWEEN THE CONDITIONS AND THE GRANTEE'S PROPOSAL, THE CONDITIONS SHALL GOVERN. FURTHER, IF THERE SHOULD BE SUCH INCONSISTENCY BETWEEN THE CONDITIONS AND THE SPECIAL CLAUSES, THE SPECIAL CLAUSES SHALL GOVERN.

BILLING CODE 4510-30-P

BILLING CODE 4910-30-C

Appendix F: County and State Authorized Positions

Note: The following text is the instructions for reviewing Appendix F, which is located at http://www.doleta.gov/Seniors/SGA/SGA.cfm.

In making decisions about areas to be served, applicants should be mindful of the number of “authorized positions” in each county as compared to the number of “actual positions.”

Funding will be based on the number of “authorized positions,” which is the first column of the state charts in this Appendix. The actual number of participants in each county is shown in the second column. In many counties the two numbers are different.

In counties in which the actual positions are greater than the authorized positions, grantees will have to manage their state-wide allocation to accommodate actual on-board participants in the over-served areas even though their funding allocation is based on the authorized position level, which may be less. Generally, in most counties that are over-served, the difference is small and can be adjusted by normal attrition or targeted efforts to place more participants into unsubsidized employment. It is expected that these imbalances will be resolved by the end of the grant period.

In a few states, there is one or more significantly over-served counties. In these states, applicants that wish to serve these counties may consider proposing to also serve enough contiguous under-served counties to compensate for the over-service in the other counties. In addition to temporarily utilizing allocations from the under served areas, attrition, and concentrated efforts to make additional unsubsidized placements, the grantee can use other local, non-Federal resources. In a few extreme cases in which the number of actual participants is far out of proportion to the number of available contiguous counties, the Department, in consultation with the state grantee, will intervene to alleviate the situation.

Other Resources

For additional information regarding which grantees are currently in a county and where the state SCSEP grantee's service areas are located, applicants may consult the Equitable Distribution Report which is found at the SCSEP Web site http://www.doleta.gov/seniors and the maps found at the SGA item under “What's New.”

Appendix G.—States That Require 10 Percent Minimum Bid
| Funding amount | Slots
California | $29,193,091 | 4,079
Florida | 20,122,897 | 2,813
New York | 22,540,759 | 3,151
Pennsylvania | 18,297,675 | 2,558
Texas | 18,928,589 | 2,646

Appendix H.—PY 2005 Levels of Funding for Current National Grantees
AARP Foundation | 73,454,709
Asociacion Nacional Pro Personas Mayores | 7,689,923
Easter Seals, Inc. | 16,077,169
Experience Works | 85,790,315
Mature Services, Inc. | 5,514,963
National Able Network, Inc. | 5,435,364
National Asian Pacific Center on Aging | 5,978,047
National Caucus & Center on Black Aged | 15,228,375
National Council on the Aging | 21,838,654
National Indian Council on Aging | 6,027,252
Senior Service America, Inc. | 50,970,214
SER—Jobs for Progress, Inc. | 26,168,160
USDA Forest Service | 20,369,239

Appendix I: State Performance Measures in PY 2005

Note: These values may be slightly higher (1-2 percent) in PY 2006 in order to promote continuous improvement in program performance and to reflect actual performance.

| Placement (percent) | Retention (percent) | Service level (percent) | Most in need (percent)
Alabama | 23 | 55 | 162 | 70
Alaska | 40 | 54 | 162 | 64
Arizona | 29 | 54 | 162 | 67
Arkansas | 25 | 54 | 151 | 67
California | 26 | 67 | 162 | 71
Colorado | 29 | 54 | 162 | 67
Connecticut | 36 | 55 | 162 | 67
Delaware | 30 | 67 | 162 | 67
District of Columbia | 20 | 50 | 162 | 81
Florida | 33 | 82 | 162 | 73
Georgia | 35 | 88 | 162 | 67
Hawaii | 30 | 55 | 162 | 67
Idaho | 29 | 54 | 151 | 67
Illinois | 30 | 55 | 160 | 67
Indiana | 30 | 55 | 151 | 67
Iowa | 30 | 55 | 162 | 67
Kansas | 21 | 53 | 151 | 73
Kentucky | 30 | 55 | 162 | 67
Louisiana | 28 | 53 | 162 | 67
Maine | 29 | 54 | 162 | 67
Maryland | 30 | 55 | 162 | 67
Massachusetts | 30 | 55 | 162 | 67
Michigan | 22 | 54 | 151 | 67
Minnesota | 23 | 55 | 151 | 67
Mississippi | 30 | 55 | 162 | 67
Missouri | 30 | 55 | 162 | 67
Montana | 31 | 55 | 151 | 67
Nebraska | 28 | 53 | 162 | 67
Nevada | 66 | 54 | 162 | 79
New Hampshire | 21 | 53 | 151 | 64
New Jersey | 25 | 50 | 162 | 67
New Mexico | 25 | 54 | 151 | 67
New York | 30 | 55 | 162 | 67
North Carolina | 29 | 55 | 162 | 67
North Dakota | 21 | 53 | 151 | 77
Ohio | 30 | 58 | 160 | 67
Oklahoma | 30 | 55 | 160 | 71
Oregon | 27 | 52 | 162 | 67
Pennsylvania | 30 | 55 | 162 | 67
Puerto Rico | 25 | 52 | 162 | 67
Rhode Island | 20 | 52 | 162 | 67
South Carolina | 29 | 54 | 151 | 67
South Dakota | 30 | 55 | 151 | 67
Tennessee | 23 | 55 | 151 | 70
Texas | 29 | 54 | 162 | 67
Utah | 27 | 52 | 162 | 67
Vermont | 34 | 53 | 162 | 64
Virginia | 30 | 82 | 160 | 70
Virgin Islands | 20 | 52 | 162 | 67
Washington | 30 | 55 | 162 | 67
West Virginia | 22 | 54 | 151 | 73
Wisconsin | 29 | 54 | 162 | 67
Wyoming | 41 | 54 | 162 | 67

Appendix J: Resource List

1. Program Legislation, Regulations, and Policies

• Older Americans Act Amendments of 2000, Pub. L. 106-501 http://www.doleta.gov/Seniors/other_docs/owp-106-501.pdf

• SCSEP Final Rule, 20 CFR part 641

http://www.doleta.gov/Seniors/other_docs/etaOAreg.pdf

641.440-460, Responsibility Review of Applicants

641.500, Participant Eligibility

641.700-715, Grantee Performance Measures

641.750-770, Sanctions for Failure to Meet

Negotiated Levels of Performance

641.844, Maintenance of Effort Requirements

641.856, Administrative Costs

641.864, Program Costs

• Older Worker Bulletins and Training and Employment Guidance Letters

TEGL No. 29-04, PY 2005 Fringe Benefit Guidelines

http://166.97.5.198/Seniors/other_docs/TEGL29-04.pdf

TEGL No. 21-04, Revised Federal Poverty Guidelines for SCSEP

http://166.97.5.198/Seniors/other_docs/teig_21-04.pdf

TEGL No. 13-04, Revised Income Definitions and Income Inclusions and Exclusions for Determining SCSEP Eligibility and Attachments

http://166.97.5.198/Seniors/other_docs/teig_13-04.pdf

http://166.97.5.198/Seniors/other_docs/TEGL_PopSurvey.pdf

http://166.97.5.198/Seniors/other_docs/TEGL_ComputeIncome.pdf

2. Applicable Forms

Routine Program Forms

http://166.97.5.198/Seniors/html_docs/Forms.cfm

SGA Forms

http://www.doleta.gov/sga/forms.cfm

3. Financial Resources

• OMB Circulars

http://www.whitehouse.gov/omb/circulars.html

• Allowable and Unallowable Cost Requirements 20 CFR 641.850

http://www.doleta.gov/Seniors/other_docs/etaOAreg.pdf

• Allocation of Indirect Costs Under the SCSEP

http://www.doleta.gov/Seniors/html_docs/docs/00-20.cfm

• One-Stop Comprehensive Financial Management Assistance Guide, Administrative Costs and Limitations, Chapter II-5-3 through II-5-6

http://www.doleta.gov/sga/pdf/FinalTAG_August_02.pdf

4. Other Applicable Laws

• Civil Rights Laws

Title IX, Education Amendments of 1972—49 CFR part 25 (gender)

Americans with Disabilities Act—28 CFR part 35 (Disability)

Rehabilitation Act—29 CFR part 32 Section 504 (Disability)

Civil Rights Act of 1964—29 CFR part 31 Title VI (Race, color, national origin, sex)

Workforce Investment Act—29 CFR part 37, Section 188 (race, color, national origin, sex, religion, disability, political affiliation or belief, and age).

Age Discrimination Act of 1975—29 CFR part 35 (any age)

U.S. Department of Labor Civil Right Center contact information: Office of Compliance Assistance and Planning (202) 693-6501

http://www.dol.gov/oasam/programs/crc/crcwelcome.htm

• Jobs for Veterans Act

http://www.doleta.gov/seniors/html_docs/regs.cfm

• Workforce Investment Act, Pub. L. 105-220

http://www.doleta.gov/seniors/html_docs/regs.cfm

• Workforce Investment Act Final Rules, 20 CFR part 652

http://www.doleta.gov/seniors/html_docs/regs.cfm

5. ETA Initiatives

• High Growth Job Training Initiative

http://www.doleta.gov/BRG/JobTrainInitiative/

• Community College Initiative

http://www.doleta.gov/business/Community-BasedJobTrainingGrants.cfm

• Hispanic Initiative

http://www.doleta.gov/reports/HWI_brief.cfm and

http://www.doleta.gov/reports/DPLD.cfm

6. SCSEP Data Collection System (DCS)/SPARQ

• DCS/SPARQ Forms and Management Reports Handbook

http://www.doleta.gov/Seniors/html_docs/GranteePerf.cfm

• DCS/SPARQ 2 Prototype

http://dol.saic-solutions.com/sparq2prototype/index.html

7. Grantee Contact Information

• Current National Grantees

http://166.97.5.198/Seniors/html_docs/docs/NationalGrantees.cfm

• State Grantees

http://166.97.5.198/Seniors/html_docs/docs/statecontacts04.cfm

8. Other Contact Information

• One-Stop Career Centers

• State Units on Aging

• National Association of Area Agencies on Aging

http://www.n4a.org/

• 502(e) Grantees and PY 2005 Service Areas

Appendix K: Positions Bid Form

Note: Appendix K is located at http://www.doleta.gov/Seniors/SGA/SGA.cfm.

[FR Doc. 06-1959 Filed 3-1-06; 8:45 am]

BILLING CODE 4510-30-P